DEPARTMENT OF DEFENSE

Office of the Secretary

[Transmittal No. 18-39]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 18-39 with attached Policy Justification and Sensitivity of Technology.

Dated: December 23, 2019.
Aaron T. Siegel,
Alternate OSD Federal Register Liaison Officer, Department of Defense.

BILLING CODE 5001-06-P

BILLING CODE 5001-06-C

Transmittal No. 18-39

Notice of Proposed Issuance of Letter of Offer Pursuant to Section 36(b)(1) of the Arms Export Control Act, as amended

(i) Prospective Purchaser: NATO Support and Procurement Agency (NSPA) as Lead Nation for Belgium, Czech Republic, Denmark, Finland, Greece, Hungary, Italy Netherlands, Norway, Poland, Portugal, Spain and the United Kingdom

(ii) Total Estimated Value:

Major Defense Equipment * | $240.5 million
Other | $ 80.0 million
TOTAL | $320.5 million

(iii) Description and Quantity or Quantities of Articles or Services under Consideration for Purchase:

Major Defense Equipment (MDE):

Five hundred (500) KMU-556 F/B Joint Direct Attack Munition (JDAM) Kits for GBU-31 2000-lbs

Forty (40) KMU-557 F/B JDAM Kits for GBU-31 2000-lbs

One thousand five hundred (1,500) KMU-572 F/B JDAM Kits for GBU-38 500-lbs

One thousand (1,000) Munitions Adapter Unit (MAU)-210 F/B Enhanced Computer Control Groups (ECCGs) for GBU-48 1,000-lb EPII

Three hundred (300) MAU-210 F/B ECCGs for GBU-49 500-lbs EPII

Three hundred (300) MXU-650K/B AFGs for GBU-49 500-lbs EPII

One thousand and twenty-five (1,025) MAU-209 C/B or MAU-169 L/B CCGs for GBU-12 500 lbs Paveway II

One thousand and twenty-five (1,025) MXU-650 K/B AFGs for GBU-12 500 lbs Paveway II

Four thousand three hundred sixty-five (4,365) Joint Programmable Fuze, FMU-152 A/B for all GBU types

Non-MDE: Also includes Detector Sensing Unit (DSU)-38A/B Laser kits, DSU-33D/B proximity sensors, Wireless Paveway Avionics Kit (WIPAK) interfaces for Enhanced Paveway II bombs, repair and return services, transportation, engineering services, and other support services.

(iv) Military Department: Air Force

(v) Prior Related Cases, if any: N4-D-YAA

(vi) Sales Commission, Fee, etc., Paid, Offered. or Agreed to be Paid: None

(vii) Sensitivity of Technology Contained in the Defense Article or Defense Services Proposed to be Sold: See Attached Annex

(viii) Date Report Delivered to Congress: November 16, 2018

* As defined in Section 47(6) of the Arms Export Control Act.

POLICY JUSTIFICATION

NATO Support and Procurement Agency—Precision Guided Munitions

NATO Support and Procurement Agency as Lead Nation has requested a possible sale of precision guided munitions kits. The components that comprise the kits are: five hundred (500) KMU-556 F/B Joint Direct Attack Munition (JDAM) Kits for GBU-31 2000-lbs; forty (40) KMU-557 F/B JDAM Kits for GBU-31 2000-lbs; one thousand five hundred (1,500) KMU-572 F/B JDAM Kits for GBU-38 500-lbs; one thousand (1,000) Munitions Adapter Unit (MAU)-210 F/B Enhanced Computer Control Groups (ECCGs) for GBU-48 1,000-lb EPII; three hundred (300) MAU-210 F/B ECCGs for GBU-49 500-lbs EPII; three hundred (300) MXU-650K/B AFGs for GBU-49 500-lbs EPII; one thousand twenty-five (1,025) MAU-209 C/B or MAU-169 L/B CCGs for GBU-12 500 lbs Paveway II; one thousand twenty-five (1,025) MXU-650 K/B AFGs for GBU-12 500 lbs Paveway II; four thousand three hundred sixty-five (4,365) Joint Programmable Fuze, FMU-152 A/B for all GBU types. Also includes Detector Sensing Unit (DSU)-38A/B Laser kits, DSU-33D/B proximity sensors, Wireless Paveway Avionics Kit (WIPAK) interfaces for Enhanced Paveway II bombs, repair and return services, transportation, engineering services, and other support services. The estimated value is $320.5 million.

This proposed sale supports the foreign policy and national security of the United States by increasing the flexibility of Belgium, Czech Republic, Denmark, Finland, Greece, Hungary, Italy, Netherlands, Norway, Poland, Portugal, Spain and the United Kingdom—twelve NATO nations and one Partnership for Peace nation—to contribute to overseas contingency operations. This sale increases the quantity of precision-guided munitions within NATO and allows for their pre-coordinated transfer in support of national and NATO requirements.

The proposed sale improves NATO's capability to meet current and future ground threats with precision. NATO will use the enhanced capability as a deterrent to regional threats, and to increase interoperability within contingency operations. Many of the purchasing nations already have precision-guided munitions in their inventories; and they will all have no difficulty absorbing these kits.

The proposed sale of this equipment and support will not alter the basic military balance in the region.

The prime contractors for production are the Boeing Corporation of St Louis, Missouri, and Raytheon Missile Systems of Tucson, Arizona. The principle contractor for integration is unknown and will be determined during contract negotiations. There are no known offset agreements proposed in connection with this potential sale.

Implementation of this proposed sale will not require the assignment of any additional U.S. Government or contractor representatives to NATO.

There is no adverse impact on U.S. defense readiness as a result of this proposed sale.

Transmittal No. 18-39

Notice of Proposed Issuance of Letter of Offer Pursuant to Section 36(b)( l ) of the Arms Export Control Act

Annex Item

No. vii

(vii) Sensitivity of Technology:

1. Joint Direct Attack Munitions (JDAM) is a Joint Service weapon that uses an onboard GPS-aided Inertial Navigation System (INS) Guidance Set with a MK 82, MK 83, MK 84, BLU-109, BLU-110, BLU-111, BLU-117, BLU-126 (Navy) or BLU-129 warhead. The Guidance Set, when combined with a warhead and appropriate fuze, forms a JDAM Guided Bomb Unit (GBU). The JDAM Guidance Set gives these bombs adverse weather capability with improved accuracy. The JDAM weapon can be delivered from modest standoff ranges at high or low altitudes against a variety of land and surface targets during the day or night. After release, JDAM autonomously guides to a target, using the resident GPS-aided INS guidance system. JDAM is capable of receiving target coordinates via preplanned mission data from the delivery aircraft, by onboard aircraft sensors (i.e. FLIR, Radar, etc) during captive carry, or from a third party source via manual or automated aircrew cockpit entry. The KMU-556 F/B, KMU-557 F/B are the tail kits for the GBU-31, the KMU-572 is the tail kit for the GBU-38. The JDAM as an All Up Round is UNCLASSIFIED; technical data for JDAM is classified up to SECRET.

2. Detector Sensor Unit (DSU)-38A/B is a laser-illuminated target detector that adds a Precision Laser Guidance Set (PLGS) to inventory JDAMs, giving the weapon system optional semi-active laser guidance in addition to its other GPS/INS guidance modes. The DSU-38A/B is a DSU-33 (proximity fuze) form-factored passive laser seeker that can be easily installed in the field to the front of existing JDAM weapons and is connected to the Guidance Set via an externally mounted strap-on harness kit. The DSU-38 provides an additional capability to engage mobile targets moving up to 70 mph. The addition of the DSU-38 Laser sensor combined with additional cabling and mounting hardware turns a standard GBU-38 JDAM into a GBU-54 Laser JDAM. The DSU-38 hardware is UNCLASSIFIED; technical data and other documentation are classified up to SECRET.

3. Enhanced Paveway II (EPII), a Laser Guided Bomb (LGB), is a maneuverable, free fall weapon that guides to a spot of laser energy reflected off of the target. The “enhanced“ component is the addition of GPS guidance to the laser seeker. This dual-mode allows the weapon to operate in all-weather conditions. The LGB is delivered like a normal general purpose (GP) warhead and the semi-active guidance corrects for many of the normal errors inherent in any delivery system. Laser designation for the LGB can be provided by a variety of laser target markers or designators. An LGB consists of an Enhanced Computer Control Group (ECCG) that is not warhead-specific, and a warhead-specific Air Foil Group (AFG) that attaches to the nose and tail of a GP bomb body. The EPII can use either the FMU-152 or FMU-139 fuze. The overall weapon is classified CONFIDENTIAL.

GBU-48 is a 1,0001b (MK-84 or BLU-117 B/B) GP bomb body fitted with the MXU- 667 AFG, and MAU-210 F/B ECCG to guide to its laser-designated target.

GBU-49 is a 5001bs (MK-82 or BLU-111 B/B) GP bomb body fitted with the MXU- 650 AFG, and MAU-210 F/B ECCGs to guide to its laser-designated target.

4. Paveway II (PWII), a Laser Guided Bomb (LGB), is a maneuverable, free-fall weapon that guides to a spot of laser energy reflected off of the target. The LGB is delivered like a normal general purpose (GP) warhead and the semi-active guidance corrects for many of the normal errors inherent in any delivery system. Laser designation for the LGB can be provided by a variety of laser target markers or designators. A LGB consists of a MAU-209C/B or MAU-169 L/B Computer Control Group (CCG) that is not warhead-specific, and a warhead-specific Air Foil Group (AFG) that attaches to the nose and tail of a General Purpose bomb body. The PWII can use either the FMU-152 or FMU-139 fuze. The overall weapon is classified CONFIDENTIAL.

GBU-12 is a 5001bs (MK-82 or BLU-111 B/B) GP bomb body fitted with the MXU- 650 AFG, and MAU-209 C/B or MAU-169 L/B CCGs to guide to its laser designated target.

5. Joint Programmable Fuze (JPF) FMU-152 is a Multi-Delay, Multi-Arm and Proximity Sensor Compatible with General Purpose Blast, Frag and Hardened-Target Penetrator Warheads. It is cockpit selectable in-flight (prior to release) when used with JDAM weapons. It can interface with the following weapons: GBU-10, GBU-12, GBU-15, GBU-16, GBU-24, GBU-27, GBU-28, GBU-31, GBU-32, GBU-38, and AGM-130. The JPF hardware is UNCLASSIFIED.

6. If a technologically advanced adversary obtained knowledge of the specific hardware and software elements, the information could be used to develop countermeasures which might reduce weapon system effectiveness or be used in the development of a system with similar or advanced capabilities.

7. A determination has been made that NSPA and the participating countries can provide substantially the same degree of protection for the sensitive technology being released as the U.S. Government. This sale is necessary in furtherance of the U.S. foreign policy and national security objectives outlined in the Policy Justification.

8. All defense articles and services listed in this transmittal have been authorized for release and export to NATO Support and Procurement Agency, Belgium, Czech Republic, Denmark, Finland, Greece, Hungary, Italy, Netherlands, Norway, Poland, Portugal, Spain, and the United Kingdom.

[FR Doc. 2019-28214 Filed 12-30-19; 8:45 am]

BILLING CODE 5001-06-P